DEPARTMENT OF TRANSPORTATION

National Highway Traffic Safety Administration

49 CFR Part 501

[Docket No. NHTSA-2004-19521]

Succession to Administrator

AGENCY: National Highway Traffic Safety Administration (NHTSA),Department of Transportation (DOT).

ACTION: Final rule.

SUMMARY: This document amends NHTSA's regulation specifying the order of succession to Administrator, and also clarifies that officials must be encumbered in their position on a permanent basis to be in the line of succession.

EFFECTIVE DATE: This rule is effective November 3, 2004.

FOR FURTHER INFORMATION CONTACT: You may contact Stanley Feldman at 202-366-9511.

SUPPLEMENTARY INFORMATION: This final rule, which amends NHTSA's regulation specifying the order of succession to the Administrator and clarifies that officials must be encumbered in their position on a permanent basis to be in the line of succession, has no substantive effect. Notice and the opportunity for comment are therefore not required under the Administrative Procedure Act, and the amendment is effective immediately upon publication in the Federal Register. In addition, this amendment is not subject to Executive Order 12866, the Department of Transportation's regulatory policies and procedures, or the provisions for Congressional review of final rules in Chapter 8 of Title 5, United States Code.

List of Subjects in 49 CFR Part 501

Authority delegations (Government agencies), Organization and functions (Government agencies).

In consideration of the foregoing, 49 CFR part 501 is amended as follows:

PART 501—[AMENDED]

1. The authority citation for part 501 continues to read as follows:

Authority: 49 U.S.C. 105 and 322; delegation of authority at 49 CFR 1.50.

2. Section 501.4 is revised to read as follows:

§ 501.4 Succession to Administrator.

(a) The following officials, in the order indicated, shall act in accordance with the requirements of 5 U.S.C. 3346-3349 as Administrator of the National Highway Traffic Safety Administration, in the case of the absence or disability or in the case of a vacancy in the office of the Administrator, until a successor is appointed:

(1) Deputy Administrator;

(2) Chief Counsel;

(3) Senior Associate Administrator for Vehicle Safety;

(4) Senior Associate Administrator for Traffic Injury Control; and

(5) Senior Associate Administrator for Policy and Operations.

(b) In order to qualify for the line of succession, officials must be encumbered in their position on a permanent basis.

Issued on October 29, 2004.
Jeffrey W. Runge,
Administrator.

[FR Doc. 04-24525 Filed 11-2-04; 8:45 am]

BILLING CODE 4910-59-P